DEPARTMENT OF COMMERCE

Foreign-Trade Zones Board

[B-53-2018]

Foreign-Trade Zone (FTZ) 127—West Columbia, South Carolina; Authorization of Production Activity; Constantia Blythewood, LLC; (Flexible Packaging and Engineered Industrial Films); Blythewood, South Carolina

On August 27, 2018, the Richland-Lexington Airport District, Columbia Metropolitan Airport, grantee of FTZ 127, submitted a notification of proposed production activity to the FTZ Board on behalf of Constantia Blythewood, LLC, within Subzone 127E, in Blythewood, South Carolina. The notification was subsequently amended to remove a finished product and several components on October 9, 2018.

The notification was processed in accordance with the regulations of the FTZ Board (15 CFR part 400), including notice in the Federal Register inviting public comment (83 FR 44859, September 4, 2018). On February 4, 2019, the applicant was notified of the FTZ Board's decision that no further review of the amended activity is warranted at this time. The production activity described in the amended notification was authorized, subject to the FTZ Act and the FTZ Board's regulations, including Section 400.14.

Dated: February 4, 2019.
Andrew McGilvray,
Executive Secretary.

[FR Doc. 2019-01664 Filed 2-7-19; 8:45 am]

BILLING CODE 3510-DS-P